DEPARTMENT OF AGRICULTURE

Office of Partnerships and Public Engagement

[FOA No.: OPPE-017]

Catalog of Federal Domestic Assistance (CFDA) No.: 10.443—Outreach and Assistance for Socially Disadvantaged Farmers and Ranchers and Veteran Farmers and Ranchers

AGENCY: Office of Partnerships and Public Engagement (OPPE), Agriculture (USDA).

ACTION: Funding Opportunity Announcement (FOA) for Fiscal Year 2022.

SUMMARY: This notice announces the availability of funds for fiscal year (FY) 2022 and solicits applications from community-based and non-profit organizations, institutions of higher education, and Tribal entities to compete for financial assistance through the Outreach and Assistance for Socially Disadvantaged Farmers and Ranchers and Veteran Farmers and Ranchers Program (hereinafter referred to as the “2501 Program”).

DATES: Only one project proposal may be submitted per eligible entity. Proposals must be submitted through Grants.gov (www.grants.gov) and received by June 8, 2022, at 11:59 p.m. EDT. Proposals submitted after this deadline will not be considered for funding.

The OPPE will host two (2) webinars during the open period of this announcement as provided below. Sessions will be recorded. Additional sessions may be necessary to answer questions and clarify requirements. There is no registration required to participate.

Session 1: March 31, 2022, at 2:00 p.m. EDT—To join the conference, click: https://www.zoomgov.com/webinar/register/WN_deGz0uf9TIyNPkkuvRfxUA.

Session 2: May 4, 2022, at 2:00 p.m. EDT—To register for the conference, click: https://www.zoomgov.com/webinar/register/WN_29_qm0hxTbeYw2I9e2QAfw.

After registering, you will receive a confirmation email containing information about joining the webinar, including call-in instructions.

ADDRESSES:

Filing a Complaint of Discrimination

To file a program discrimination complaint, you may obtain a complaint form by sending an email to OAC@usda.gov. You or your authorized representative must sign the complaint form. You are not required to use the complaint form. You may write a letter instead. If you write a letter, it must contain all the information requested in the form and be signed by you or your authorized representative. Incomplete information will delay the processing of your complaint. Employment civil rights complaints will not be accepted through this email address.

Send your completed complaint form or letter to USDA by mail, fax, or email:

Mail: U.S. Department of Agriculture, Director, Center for Civil Rights Enforcement, 1400 Independence Avenue SW, Washington, DC 20250-9410.

Fax: (202) 690-7442.

Email: program.intake@usda.gov.

FOR FURTHER INFORMATION CONTACT: U.S. Department of Agriculture, Office of Partnerships and Public Engagement, Attn: Director, Grant Programs, Jamie L. Whitten Building, Room 524-A, 1400 Independence Avenue SW, Washington, DC 20250, Phone: (202) 720-6350, Fax: (202) 720-7704, Email: 2501Grants@usda.gov.

Persons with Disabilities: Persons who require alternative means for communication (Braille large print, audiotape, etc.), should contact USDA's TARGET Center at (202) 720-2600 (voice and TDD). Additionally, alternative means for submissions due to disability status will be approved on a case-by-case basis.

SUPPLEMENTARY INFORMATION: The overall goal of the 2501 Program is to encourage and assist socially disadvantaged farmers and ranchers, veteran farmers and ranchers, and beginning farmers and ranchers with owning and operating farms and ranches and in participating equitably in the full range of agricultural, forestry, and related programs offered by USDA. It also includes projects that develop socially disadvantaged youths' interest in agriculture. In partnership with the OPPE, eligible entities may compete for funding on projects that provide education and training in agriculture, agribusiness, forestry, agricultural-related services, and USDA programs, and to conduct outreach initiatives designed to accomplish those goals. This partnership includes working closely with OPPE, attend OPPE-led events in your proposed service territory, and collaborate with USDA Service Centers located in your state (Farm Service Agency, Natural Resources Conservation Service, and Rural Development).

Funding/Awards: The total funding provided for this competitive grant program is approximately $35 million. This includes approximately $18 million as provided in the 2018 Farm Bill and funding from Section 754 of Division N, Additional Coronavirus Response and Relief, of the Consolidated Appropriations Act, 2021, Public Law 116-260, in the amount of $17 million.

The OPPE will award grants from this announcement, subject to availability of funds and the quality of applications received. All applicants will compete based on their organization's entity type (e.g., nonprofit organization, tribal entity, or higher education institution), as described below. The project period must be three (3) years for all proposals. The maximum amount of requested federal funding for projects shall not exceed $750,000 over the 3-year period. Additionally, the maximum award per year is $250,000. Projects will be funded in accordance with the approved statement of work and the OPPE Guidelines to maximize outreach, education and technical assistance ensuring geographical distribution of funds as required in section 7 U.S.C. 2279(c)(4)(G).

Funds will be awarded to eligible entities that have at least three (3) years of documented experience, preceding the submission of an application, in working with socially disadvantaged farmers and ranchers or veteran farmers and ranchers to improve their ability to start and maintain successful forestry and/or agricultural-related operations. The Secretary shall give priority to nongovernmental and community-based organizations with demonstrated history of serving socially disadvantaged and veteran farmers and ranchers (see Section V. Application Review Information). OPPE will check several sources, including the System of Award Management (SAM.gov) to help determine the minimum of 3 years of documented experience in working with either socially disadvantaged or veteran farmers and ranchers. Entries in SAM take precedence when determining experience.

An applicant MUST be an entity or organization. Individuals and for-profit organizations do not meet the eligibility criteria.

Unallowable use of 2501 Grant Program funds:

1. Funds may not be used for the planning, repair, rehabilitation, acquisition, or construction of a building or facility.

2. Funds may not be used to pay hourly wages as in a jobs creation program for individual farmers or ranchers.

3. Funds may not be used as small agricultural loans for individual farmers or ranchers or used to incentivize individuals to attend events, workshops, or training.

4. Funds may not be used to purchase farming supplies for individual farmers or ranchers or to enhance individual farmers' or ranchers' farms or production capabilities.

5. Funds may not be used to reward individual farmers or ranchers for outstanding effort or achievement in training.

6. Funds may not be used to pay for scholarships for individual farmers or ranchers to attend college courses, certificate courses, or other “for fee” based courses.

7. Funds may not be used for start-up or financing costs for businesses or for an organization's capacity building, which is defined as the development of organizational competencies, strategies, or systems and structures in order to improve organizational efficiency and effectiveness.

8. Funds may not be used for large equipment purchases such as vehicles, semi-tractors, or refrigeration systems.

Eligible entities may receive subsequent years funding provided that:

(a) Activities and associated costs do not overlap with projects awarded in previous years; and

(b) Recipients are current and compliant with financial and performance reporting. The progress of existing projects, along with the percentage of funds used to date, may impact funding decisions.

Funding will be awarded based on ranked scores comprised of the three categories described below. The OPPE has discretion to allocate funding among the three categories based upon the number and quality of applications received. There is no commitment by the OPPE to fund any particular application nor is there a minimum number of recipients within each category.

Category #1: Eligible entities described in Sections III.A.2, III.A.3, and III.A.4 (1890 Land-Grant colleges and universities, 1994 Tribal Land-Grant, Alaska Native and American Indian Tribal colleges and universities, and Hispanic-Serving Institutions of higher education).

Category #2: Eligible entities described in Sections III.A.1 and III.A.6 (i.e., nonprofit organizations, community-based organizations, including a network or a coalition of community-based organizations, Federally-recognized Indian Tribes (as defined in 25 U.S.C. 5131), and National Tribal organizations).

Category #3: Eligible entities described in Sections III.A.5 and III.A.7 (i.e., all other institutions of higher education including 1862 colleges, nonprofit organizations without a 501(c)(3) status certification from the IRS, and an organization or institution that received funding under this program before January 1, 1996).

Contents of This Announcement

I. Funding Opportunity Description

A. Background

B. Scope of Work

C. Anticipated Outputs (Activities), Outcomes (Results), and Performance Measures

II. Award Information

A. Statutory Authority

B. Expected Amount of Funding

C. Project Period

D. Award Type

III. Eligibility Information

A. Eligible Entities

B. Cost-Sharing or Matching

C. Threshold Eligibility Criteria

IV. Proposal and Submission Information

A. System for Award Management (SAM)

B. Obtain Proposal Package From Grants.gov (www.grants.gov)

C. Content of Proposal Package Submission

D. Sub-Awards and Partnerships

E. Submission Dates and Times

F. Confidential Information

G. Pre-Submission Proposal Assistance

V. Application Review Information

A. Evaluation Criteria

B. Evaluation Criteria for New Grants Proposals

C. Selection of Reviewers

VI. Award Administration Information

A. Award Notices

B. Administrative and National Policy Requirements

C. Reporting Requirement

I. Funding Opportunity Description

A. Background

The OPPE is committed to ensuring underserved communities can equitably participate in USDA programs. Differences in demographics, culture, economics, language, and other factors preclude a single approach to identifying solutions that can benefit underserved farmers and ranchers. Grants are provided to community-based and non-profit organizations, higher education institutions, eligible Tribal entities and other eligible entities with at least three (3) years of documented experience, preceding the submission of an application. Eligible entities working with socially disadvantaged farmers and ranchers or veteran farmers and ranchers can improve their ability to start and maintain successful forestry and/or agricultural-related operations. With 2501 Program funding, organizations can provide education, training, and technical assistance and extend outreach and education efforts to connect with and assist socially disadvantaged and veteran farmers and ranchers to provide them with information on available USDA resources.

1. The 2501 Program was authorized by the Food, Agriculture, Conservation, and Trade Act of 1990. The Food, Conservation, and Energy Act of 2008 expanded the authority of the Secretary of Agriculture (the Secretary) to provide awards under the program and transferred the administrative authority to the OPPE. The Agricultural Act of 2014 further expanded the program to include outreach and technical assistance to veterans. The 2501 Program extends USDA's capacity to work with members of farming and ranching communities by funding projects that enhance the equitable participation of socially disadvantaged and veteran farmers and ranchers in USDA programs. It is the OPPE's intention to build lasting relationships among USDA, recipient organizations, and underserved communities to maximize the availability of outreach and technical assistance in targeted communities.

2. Only one proposal will be accepted from each organization. This does not apply to applicants in the State of Massachusetts. The State fiscal transfer agent may submit multiple proposals ensuring that only one proposal is submitted on behalf of each of its individual fiscally sponsored organizations.

B. Scope of Work

The 2501 Program provides funding to eligible organizations with at least 3 years of documented experience, preceding the submission of an application, in working with socially disadvantaged farmers and ranchers or veteran farmers and ranchers to improve their ability to start and maintain successful forestry and/or agricultural-related operations. Proposals must be consistent with requirements stated in 7 U.S.C. 2279(c)(3). Under this statute, the outreach and technical assistance program funds shall be used exclusively:

1. To enhance coordination of the outreach, technical assistance, education, and training efforts authorized under USDA agriculture programs;

2. To assist the Secretary of Agriculture in:

a. Reaching current and prospective socially disadvantaged farmers or ranchers, veteran farmers or ranchers, or beginning farmers and ranchers in a linguistically appropriate manner; and

b. improving the participation of those farmers and ranchers in USDA programs.

There are five programmatic mission areas that support the goals of the 2501 Program. Proposals from eligible entities must address at least two of the five following programmatic mission areas as they develop their goals:

i. Assist socially disadvantaged, veteran farmers and ranchers, including beginning farmers and ranchers in owning and operating successful farms and ranches;

ii. Improve participation among socially disadvantaged or veteran farmers and ranchers in USDA programs;

iii. Build relationships between current and prospective farmers and ranchers who are socially disadvantaged or veterans and USDA's local, state, regional, and National offices;

iv. Assist in reaching current and prospective socially disadvantaged farmers, ranchers, or forest landowners in a linguistically appropriate manner; and

v. Assist with identifying problems and barriers socially disadvantaged farmers experience and working towards minimizing or alleviating those issues to enable their equitable participation in USDA programs.

The OPPE shall seek input from eligible entities providing technical assistance under this subsection not less than once each year to ensure that the program is responsive to the eligible entities providing that technical assistance (7 U.S.C. 2279(c)(4)(J)). The OPPE may require Project Directors to attend an Annual Meeting that can be expensed with awarded grant funds not to exceed $1,800 per award year. The Annual Meeting will allow participants, USDA officials, and other agriculture-related industry participants to network, encourage partnerships, share best practices (including COVID-related strategies used to assist targeted communities), discuss programmatic requirements, share information on new and enhanced USDA programs and services, and obtain programmatic feedback. Stakeholder input will also be accepted by those unable to attend the Annual Meeting in person by September 30th of each fiscal year at: 2501Grants@usda.gov.

C. Anticipated Outputs (Activities), Performance Measures, and Outcomes (Results)

1. Outputs (Activities). The term “output” describes the volume accomplished, produced, or put into action. Outputs indicate the extent of project activity and generally address the question of “how much?” An example of an output is “number of training sessions conducted,” “number of individuals receiving training,” or “number of educational materials developed.” Other examples may include:

a. Conduct 12 workshops annually, either virtually or in-person, on how to write a business plan;

b. Assist 100 new farmers/ranchers annually on what is required to be able to process and accept SNAP payments;

c. Within the 3-year period of award, create 10 step-by-step videos in 3 languages on implementing new irrigation techniques.

2. Performance Measures. Performance Measures evaluate an organization's progress in meeting their objective which should be based on at least two of the five programmatic mission areas mentioned above; compare actual results to expected results; and evaluate their project's effectiveness in delivering expected results. Organizations should develop outcome-based performance measures to ensure their project is progressing to meet their goals. Applicants must develop performance measure targets for each of their proposed activities. These targets will be used as a mechanism to track the progress and success of the project. Quantitative data is expressed in quantities, amounts, or a range and can be used to measure outputs and outcomes. Qualitative data is information that cannot be measured such as a change in perceptions. Baselines must be established in order to determine whether an organization is meeting their goals. An example of a Performance Measure is a comparison of how many farmers and ranchers know about available USDA programs before an organization conducts their workshops on USDA programs compared to the number of farmers and ranchers that know about available USDA programs after training is conducted.

3. Outcomes (Results). The term “outcome” means the final impact, difference or effect that has occurred as a result from carrying out an activity, workshop, meeting, or from delivery of services related to a 2501 programmatic goal or objective. Results may be agricultural, behavioral, social, or economic in nature. Outcomes may reflect an increase in knowledge or skills, a greater awareness of available resources or programs, or actions taken by stakeholders as a result of learning. Specifically, outcomes must be quantitative as it relates to the project goals and objectives. Project Managers will be required to document anticipated outcomes that are funded under this announcement. Some examples include, but are not limited to the following:

a. Documenting the actual number of new farmers/ranchers as a result of your project and the type of assistance (i.e., number of new farms or ranches started) documenting higher profitability or economic stability of existing socially disadvantaged or veteran farmers/ranchers; documenting increased access to marketing and sales opportunities for their products;

b. Documenting race, sex, national origin, disability (if provided) and number of socially disadvantaged and/or veteran farmers or ranchers with an increase in awareness in and applying for USDA programs;

c. Documenting race, sex, national origin, disability (if provided) and number of socially disadvantaged or veteran farmers/ranchers that have better access to USDA programs and have applications approved for funding.

II. Award Information

A. Statutory Authority

The statutory authority for this action is 7 U.S.C. 2279(c), which authorizes award funding for projects designed to provide outreach and technical assistance to socially disadvantaged or veteran farmers or ranchers.

B. Expected Amount of Funding

The total estimated funding expected to be available for awards under this competitive opportunity is approximately $35 million. The maximum amount of requested federal funding shall not exceed $750,000.

C. Project Period

The performance period for projects selected from this solicitation will not begin prior to the effective award date listed in the grant agreement. The project period must be three (3) years.

D. Award Type

Funding for selected projects will be in the form of a grant agreement which must be fully executed no later than September 30 annually. The anticipated Federal involvement will include, but not limited to, the following activities:

1. Approval of recipients' final budget and Project Narrative or statement of work accompanying the grant agreement;

2. Monitoring of recipients' performance through semi-annual and final financial and performance reports; and

3. Conducting on-site monitoring visits to review compliance, use of Federal funds and fidelity in implementing the project.

All award notifications will be “conditionally approved” pending final validation of all selected applicants' submission documentation and/or application package. OPPE reserves the right not to fund any “conditionally approved” application(s) found to be ineligible after final validation.

III. Eligibility Information

A. Eligible Entities

1. Any non-profit, community-based organizations, tribal entity, networks, or a coalition of community-based organizations with at least 3 years of documented expertise in working with socially disadvantaged farmers or ranchers or veteran farmers or ranchers that:

• Demonstrates experience in providing agricultural education or other agriculturally related services on USDA programs and services to socially disadvantaged or veteran farmers or ranchers;

• provides documentary evidence of work with, and on behalf of, socially disadvantaged or veteran farmers or ranchers, or beginning farmers and ranchers during the 3-year period preceding the submission of a proposal for assistance under this program (the lead applicant and/or any organization(s) comprising of a coalition or network must meet the 3-year period preceding the submission criteria); and

• does not or has not engaged in activities prohibited under Section 501(c)(3) of the Internal Revenue Code of 1986.2.

2. An 1890 or 1994 land-grant institution of higher education (as defined in 7 U.S.C. 7601 and in Section 533 of the Equity in Educational Land-Grant Status Act of 1994 (7 U.S.C. 301 note)).

3. An American Indian Tribal community college or university or an Alaska Native cooperative college.

4. A Hispanic-Serving Institution of higher education (as defined in 7 U.S.C. 3103).

5. Any other institution of higher education (as defined in 20 U.S.C. 1001) that has demonstrated experience in providing agricultural education or other agricultural-related services to socially disadvantaged or veteran farmers or ranchers.

6. Any Federally-recognized Indian Tribe (as defined in 25 U.S.C. 5131) or a national tribal organization that has demonstrated experience in providing agricultural education or other agriculturally related services to socially disadvantaged or veteran farmers or ranchers.

7. All other organizations or institutions that received funding under this program before January 1, 1996, but only with respect to projects that the Secretary considers similar to projects previously carried out by the entity under this program.

B. Cost-Sharing or Matching

There are no cost-sharing nor matching requirements associated with this program. Applicants may charge their negotiated indirect cost rate or 10 percent, whichever is lower. Indirect cost rates exceeding 10 percent will not be permitted.

C. Threshold Eligibility Criteria

Applications from eligible entities that meet all criteria will be evaluated as follows:

1. Proposals must comply with the submission instructions and requirements set forth in Section IV of this announcement. Pages greater than the page limitation will not be considered.

2. Proposals must be received through Grants.gov (www.grants.gov) as specified in Section IV of this announcement on or before the proposal submission deadline. Applicants will receive an electronic confirmation receipt of their proposal from Grants.gov.

3. Proposals received after the submission deadline will not be considered. Note that in order to submit proposals, organizations must create an account in Grants.gov and in the System for Awards Management (www.SAM.gov; both of which could take several weeks. Therefore, it is strongly suggested that organizations begin this process immediately. Registering early could prevent unforeseen delays in submitting your proposal.

4. Proposals must address a minimum of two programmatic mission areas listed in Section I, Part B, (i-v) to provide outreach, education, and/or technical assistance to socially disadvantaged or veteran farmers or ranchers.

5. Recipients of a 2501 Grant with a Period of Performance that extends beyond 90 days of the current fiscal year are not eligible to apply (this does not apply to grantees with a no-cost extension). For example, current 2501 Grant recipients must complete their projects by the end of the current calendar year to be eligible to apply.

6. Incomplete or partial applications will not be eligible for consideration. Any required documents missing from an applicant's application will render that applicant ineligible and the application will not be forwarded to the Review Panel (the Panel) for review. Additionally, applications may not be accepted for review if they exceed the maximum allowable pages for the Project Narrative, exceed the maximum federal budget request, or propose objectives that do not adhere to the specific goals of the 2501 Program. See Section IV. Content of Proposal Package Submission, subparagraph C, for required documents.

IV. Proposal and Submission Information

A. System for Award Management (SAM)

SAM.gov streamlines the application process and reduces applicant burden by enabling applicants to complete the required Financial Assistance Representations and Certifications in SAM.gov when applying for any Federal financial assistance.

It is a requirement to register for SAM (www.sam.gov). There is NO fee to register for this site. This registration must be maintained and updated annually. Applicants can register or update their profile, at no cost, by visiting the SAM website at www.sam.gov. This is a requirement to registering for Grants.gov where all organizations must submit their application.

The Financial Assistance Representations and Certifications Report must be completed. Grant applicants are essentially applying for Federal financial assistance. Therefore, in order to complete the Financial Assistance Representations and Certifications Report, you must respond “yes” to the question in SAM.gov that asks, “Does XYZ Organization wish to apply for a Federal Financial assistance project or program?” Completing this report certifies that your organization is in compliance with all relevant provisions of Federal laws, executive orders, regulations, and public policies governing financial assistance awards.

Per 2 CFR part 200, applicants are required to: (1) Be registered in SAM prior to submitting an application; (2) provide a valid unique entity identifier in the application; and (3) continue to maintain an active SAM registration with current information at all times during which the organization has an active Federal award or an application or plan under consideration by a Federal awarding agency. The OPPE may not make a Federal award to an applicant until the applicant has complied with all applicable unique entity identifier and SAM requirements. If an applicant has not fully complied with the requirements by the time the OPPE is ready to make a Federal award, the OPPE may determine that the applicant is not qualified to receive a Federal award and use that determination as a basis for making a Federal award to another applicant. Additionally, organizations found to have unresolved key personnel exclusions will not be awarded.

SAM contains the publicly available data for all active exclusion records entered by the Federal Government identifying those parties excluded from receiving Federal contracts, certain subcontracts, and certain types of Federal financial and non-financial assistance and benefits. All applicant organizations and their key personnel will be vetted through SAM to ensure compliance with this Federal requirement. Organizations identified as having delinquent Federal debt may contact the Treasury Offset Program for instructions on resolution at (800) 304-3107. In the meantime, organizations will not be awarded a grant prior to resolution.

Should an applicant be awarded a grant, ezFedGrants (USDA's financial grants management system) is linked with SAM to ensure funding payments are directed properly; therefore, entities must enter their banking information through SAM. Federal agencies cannot award funding to any organization not properly/fully registered is SAM.

B. Obtain Proposal Package From Grants.gov (www.grants.gov)

Federal agencies post competitive funding opportunities on Grants.gov and applicants must submit their application or proposal to apply for Federal financial assistance through Grants.gov. Applicants can learn about grants by visiting Grants.gov (www.grants.gov), clicking on the Learn Grants tab and search for funding opportunities by clicking on the Search Grants tab on this site.

All Applicants will be required to register with Grants.gov in order to begin the proposal submission process. We strongly suggest you initiate this process immediately to avoid processing delays due to registration requirements. There is no cost for registration. This website is managed by the Department of Health and Human Services, not the OPPE. Many Federal agencies use this website to post Funding Opportunity Announcements (FOA). Click on the “Support” tab to contact their customer support personnel if you need help with submitting your application.

Applicants may download individual grant proposal forms from Grants.gov. For assistance with Grants.gov, consult the Applicant User Guide at http://grants.gov/assets/ApplicantUserGuide.pdf.

Federal funding agencies post funding opportunities on Grants.gov. The OPPE is not responsible for submission issues associated with Grants.gov. If you experience submission issues, contact Grants.gov support staff for assistance.

Proposals must be submitted by June 8, 2022, via Grants.gov at 11:59 p.m. EDT. Proposals submitted after this deadline will not be considered.

C. Content of Proposal Package Submission

All submissions must contain completed and electronically signed original application forms, as well as a Project Narrative and a Budget Narrative as described below:

1. Required forms, documents, and attachments. The forms listed below can be found in the proposal package at Grants.gov and must be submitted with all applications. Required forms are provided in the package as fillable forms. Applicants must download and complete these forms and submit them in the application submission portal at Grants.gov. PDF documents listed below are documents the applicant must create and submit in PDF format. Use the checklist of required documents below to submit your application through Grants.gov:

✓ Standard Form (SF) 424, Application for Federal Assistance

✓ Project/Performance Site Location(s)

✓ Project Abstract Summary

✓ Project Narrative (in PDF format)

✓ Standard Form (SF) 424A, Budget Information—Non-Construction Programs

✓ Budget Narrative (in PDF format)

✓ Key Contacts (list names of all key personnel)

✓ Grants.gov Lobbying Form

✓ Articles of Incorporation for non-profit organizations & community-based organizations; attach under “Attachments Form” —see last bullet)

✓ 501(c)3 Certificate/letter from the IRS (for non-profit organizations; attach under “Attachments Form” —see last bullet)

✓ Resumes of all key personnel working on your project

✓ Attachments Form (where you may place all your appendices, i.e., Letters of Partnership, Letters of Intent, Resumes, Articles of Incorporation, other supporting documents, etc.)

Do not include lengthy or unnecessary organizational documents such as your organization's business plans, Annual Reports, or full course or training curriculums in your application. Excessively large documents in applications are cumbersome and increase downloading errors from Grants.gov and in forwarding to the Review Panel.

Below is further guidance, where needed, for completing the required forms, documents, and attachment forms listed above.

SF-424, Application for Federal Assistance

Complete all highlighted areas on this form. Pay particular attention to block 18a of the SF-424. This is the total amount of Federal funding you are requesting under the 2501 Program. This form is the official requesting document and the amount that will be considered if you should have any discrepancies between this form and your Budget Information Form, SF-424A. Ensure this form is completed with accuracy, particularly email addresses and phone numbers. The OPPE may not be able to reach you if your information is incorrect.

Project/Performance Site Location(s)

Complete all highlighted areas on this form. Add additional locations if your project will be carried out at additional sites.

Project Abstract Summary

A Project Abstract Summary is a concise summary about your project. No points will be given or subtracted for the Project Summary Page as it will be used only for informational purposes. It may be used in its entirety or in part for media purposes to include in press releases, informational emails to potential stakeholders or partners, to provide upper echelons of government with a snapshot of an organization, and for demographic purposes. Do not restate the objectives of the 2501 Program (i.e., “to provide outreach and technical assistance for socially disadvantaged farmers and ranchers and veterans farmers and ranchers”); the Project Abstract Summary should reflect the goal of your specific project. Limit your Project Abstract Summary to 250 words and include the following:

• Your organization's name;

• Name of your project;

• Three or four sentences describing your project;

• The primary populations/communities you serve;

• The project's geographic service area (counties, state(s), etc.); and

• Project Director's name, email address, and telephone number.

Project Narrative (Not To Exceed 30 Double-Spaced Pages)

The Project Narrative is a document that you create. It must include a timeline of proposed activities. Formatting requirements for Project Narratives are 1-inch margins and 12-point font, and double-spaced. Number each page of the Project Narrative to indicate the total number of pages (i.e., 1 of 30, 2 of 30, etc.). To ensure fairness and uniformity for all applicants, Project Narratives not conforming to this stipulation may not be considered.

Project proposals should include a well-conceived strategy for addressing the programmatic mission areas stated in Section I, Part B, Scope of Work. Organizations should state which programmatic mission areas will be addressed. Additionally, proposals must: (1) Define and establish the existence of the needs of socially disadvantaged farmers or ranchers or veteran farmers or ranchers, or both; (2) identify the geographic area of service; and (3) discuss the potential impact of the project; (4) clearly state their 3-years of experience in delivering agriculture related services to socially disadvantaged or veteran farmers and ranchers and provide documented proof; and (5) clearly document how you plan to fulfill the requirement to coordinate efforts in partnership with the OPPE and USDA Service Centers in your state to maximize outreach and training in your service territory.

• Programmatic Capability: Project proposals must: (1) Identify the experience of the organization(s) and key personnel taking part in the project (past successes); (2) identify the names of organizations that will be your partners in the project if any; (3) identify the qualifications, relevant experience, education, and publications of each Project Manager or partners; and (4) specifically address the work to be completed by key personnel and their roles and responsibilities within the scope of the proposed project. This includes partnering scenarios whereas each partners' roles and responsibilities must be defined.

• Financial Management Experience: Document a demonstrated ability to successfully manage and complete your project by including details of successfully completed past projects and financial management experiences.

• Tracking and Measuring: Clearly document a detailed plan for tracking and measuring project progress including the results of the project in terms of achieving expected project outputs and outcomes as stated in Section I, Part C, Performance Measures. Address both quantitative and qualitative data. A mitigation or contingency plan should also be addressed.

• Timelines are an integral part of your project and must be included in your Project Narrative. In an organized format, create a timeline for each task to be accomplished during the entire proposed period of performance. Relate each task to one of the five programmatic mission areas in Section I, Part B. The timeline is part of the 30-page limit and should be detailed enough to show your activities, start and end dates, assigned personnel, milestones, and deliverables in a chronological order. The timeline may be in a table format and does not have to be double-spaced.

Attach your Project Narrative in PDF format to the Mandatory Project Narrative form in your Grants.gov package.

SF-424A, Budget Information—Non-Construction Programs

Provide as much information as possible on the SF-424A for each year of your project. For example, on page 1 of SF-424A, line 1 across may indicate year one of your project, line 2 across may indicate year two of your project, and line 3 across may indicate year three of your project. On page 1A of SF-424A, columns 1 through 3 may represent each year of your project. All cost categories on page 1A of this form are considered direct costs. Remember that your indirect cost rate may not exceed the 10 percent statutory limitation based upon modified direct costs found in 7 U.S.C. 2279(l)(7).

Budget Narrative (Not To Exceed 5 Pages)

The Budget Narrative is a document that you create. It must be no more than five pages. It does NOT have to be double spaced. You may use tables. While the OPPE understands that your proposed budget is an estimation of costs, your Budget Narrative should be based on financial forecasting assumptions. The Budget Narrative should identify and describe the costs associated with the proposed project, including sub-awards or contracts and indirect costs. These costs should be very detailed and descriptive as to their purpose. Review 2 CFR part 200 Subpart E—Uniform Administrative Requirements, Cost Principles, and Audit Requirements for Federal Awards to ensure your project is not planned with unallowable costs. Applicants may charge their negotiated indirect cost rate or 10 percent, whichever is lower. Indirect cost rates exceeding 10 percent will not be permitted. Each cost indicated must be reasonable, allocable, necessary, and allowable under 2 CFR part 200, subpart E in order to be funded.

• Cost categories, also called Object Class Categories, include costs for Personnel, Fringe Benefits, Travel, Equipment, Supplies, Contractual, Construction, and Other costs.

Personnel costs: For each key staff person, provide the name (if known), title, time commitment to the project as a percentage of a full-time equivalent (FTE), annual salary, and grant funded salary. You may refer to the prevailing wage rates established by the Department of Labor by occupation and geographical area. Compensation for personnel services (whether classified as personnel, contractual services, or any other form) may not exceed the pro-rated equivalent of Step III of the Executive Schedule for Federal Employees.

Costs of consultants, subgrants, or contractors should be included in the “Contractual” cost category.

Fringe Benefits: Provide a break-down of amounts and percentages that comprise fringe benefit costs such as health insurance, FICA, retirement, etc.

Travel costs: Provide specifics on purpose of travel, number of travelers, destination, and estimates on costs for airfare, lodging, meals, car rentals, and incidentals. The Federal Travel Regulations should be used as a guide.

Equipment: Any article of nonexpendable, tangible personal property having a useful life of more than one year and an acquisition costs which equals or exceeds the lesser of (a) the capitalization level established by the organization for financial statement purposes, or (b) $5,000. For each type of equipment requested, provide a description of the equipment, the cost per unit, the number of units, the total cost, and a plan for use on the project, as well as use or disposal of the equipment after the project ends. The Recipient shall maintain an annual inventory, which will include a brief description of the item, serial number, and amount of purchase for equipment purchased with grant funds, or received under a grant, and having a $5,000 or more per unit cost. The inventory must also identify the sub-award under which the equipment was purchased. Maintenance and insurance will be the responsibility of the Recipient. Title of equipment will remain with the Recipient until closeout when disposition will be provided in writing by OPPE within 120 days of submission of final reports.

Supplies: Specify general categories of supplies and their costs (less than $5,000). Show computations and provide other information which supports the amount requested.

Contractual costs: Costs should entail all contracts for services and goods that further the work of the project only.

• Include third party evaluation contracts (if applicable) and contracts with secondary recipient organizations. Demonstrate that all procurement transactions will be conducted in a manner to provide, to the maximum extent practical, free, fair, and open competition. Identify proposed sub-contractor work and the cost of each sub-contractor. Provide a detailed budget for each sub-contractor that is expected to perform work estimated to be $30,000 or more, or 50% of the total work effort, whichever is less.

• Identify each planned subcontractor and its total proposed budget. Each subcontractor's budget and supporting detail should be included as part of the applicant's budget narrative.

• Provide the following information for each planned subcontract: A brief description of the work to be subcontracted; the number of quotes solicited and received, if applicable; the cost or price analysis performed by the applicant; names and addresses of the subcontractors tentatively selected and the basis for their selection; e.g., unique capabilities (for sole source subcontracts), low bidder, delivery schedule, technical competence; type of contract and estimated cost and fee or profit; and, affiliation with the applicant, if any.

• Include all Subawards under Contractual Costs. Per 2 CFR part 200.1, Subaward—refers to an award provided by a pass-through entity (your organization) to a subrecipient for the subrecipient to carry out part of a Federal award received by the pass-through entity. It does not include payments to a contractor or payments to an individual that is a beneficiary of a Federal program. A subaward may be provided through any form of legal agreement, including an agreement that the pass-through entity considers a contract.

Subaward budgets: Roles and responsibilities must be defined to determine the level of involvement and efforts to increase training and outreach to socially disadvantaged farmers and ranchers. If applicable, identify each planned subaward and its total proposed budget. Include a brief description of the work to be performed.

Other costs: Identify and describe in detail any other costs not identified in the above cost categories. Costs associated with an organization's day-to-day operations such as custodial workers would be an example of “Other” costs. Provide an itemized list with costs and state the basis for each proposed item.

Special notes when creating your budget:

1. Review Unallowable Use of 2501 Grant Program Funds under the SUPPLEMENTARY INFORMATION section of this announcement.

2. Costs must be deemed reasonable. This includes salaries for key personnel which may not exceed the prevailing wage rates established by the Department of Labor by occupation and geographical area (see 2 CFR part 200.404 and Appendix II(D)).

3. Food for attendees of conferences may not exceed $10 per person per meal, not to exceed two meals per day. Additionally, animals acquired and used for demonstration projects only, may not exceed $4,000, which includes any transportation costs, feed/feeding lot, etc. Grant funds may NOT be used to pay attendees as an incentive for participation in conferences nor be advertised as such. For a list of unallowable costs, see 2 CFR part 200, subpart E.

Attach your Budget Narrative in PDF format to the Mandatory Budget Narrative form in your Grants.gov package.

Key Contacts Form

All key personnel should be listed on your Key Contact Form. At a minimum, the names of at least two key personnel should be provided to ensure that we are able to contact your organization. Provide first, middle, and last names of all key personnel that will be working on the proposed project. All organizations should submit at least a Project Director or Manager and a Financial Representative. Additional Key Contacts Forms may be used as necessary. Ensure this form is completed with accuracy. Individuals not listed on an applicants' Key Contacts Form will not receive information about or access to data that concerns the applicant organization.

Attachments Form for Appendices

Non-profit organizations must submit abbreviated Articles of Incorporation (must have been established at least 3 years prior to application submission) and their 501(c)3 Certificate/Letter from the IRS. All applicants should submit résumés for key personnel and subaward key personnel; Letters of Commitment; Letters of Intent, Partnership Agreements, or Memoranda of Understanding with partner organizations; Letters of Support; or other supporting documentation which is encouraged but not required. Using this form in your Grants.gov application package, applicants can consolidate all supplemental materials into one attachment or attach appendices documents individually. Do not include documents from other sections as an Appendix.

DO NOT PASSWORD PROTECT ANY OF YOUR SUBMITTED DOCUMENTS OR FORMS. Password protected documents cannot be viewed by the OPPE or the Review Panel.

D. Sub-Awards and Partnerships

Funding may be used to provide subawards, which includes using subawards to fund partnerships; however, the lead recipient must utilize at least 50 percent of the total funds awarded, and no more than three sub-awards will be permitted. Subawardees and partners are generally responsible for carrying out grant activities as assigned. All subawardees—and partners are subject to the requirements and responsibilities on the grant and must be a nonprofit or institution of higher education. This does not apply to contractors as they support the grant activities by providing goods and services. All applicants, including the lead or prime applicant if applying as a coalition of nonprofits, are responsible for ensuring that all sub-awardees comply with applicable requirements for subawards and are subject to the Terms and Conditions of the Agreement, if awarded. Applicants must provide documentation of a competitive bidding process for services, contracts, and products, including consultants and contractors, and conduct cost and price analyses to the extent required by applicable procurement regulations.

The OPPE awards funds to one eligible applicant as the lead or prime award recipient. The lead or prime applicant must be indicated as the responsible party, if other organizations are named as partners or co-applicants or members of a coalition or consortium. The lead or prime award recipient will be held accountable to the OPPE for the proper administrative requirements and expenditure of all funds.

Per OMB guidance, Federal awarding agencies are required to check the SAM Exclusions list of persons and entities ineligible for Federal awards. This requirement flows down to Federal Award recipients who are required to check SAM Exclusions for all subawards and contracts. Lead or prime recipients must obtain prior written approval from the awarding agency for all proposed subawards, regardless of size, for all subawards not included in the original proposal (see 2 CFR 200.308(c)(6)). For all subawards, prime recipients must confirm that they have conducted a risk-assessment of each of the proposed subrecipient(s) by name; and verify that each subrecipient does not have active exclusions in SAM and does not appear on the Suspension and Debarment List.

E. Submission Dates and Times

The closing date and time for receipt of proposal submissions is June 8, 2022, at 11:59 p.m., EDT, via Grants.gov (www.grants.gov). Proposals received after the submission deadline will be considered late without further consideration. Proposals must be submitted through Grants.gov without exception. Additionally, organizations must also be registered in the System of Awards Management (SAM) at: www.sam.gov. Creating an account for both websites can take several weeks to receive account verification and/or PIN numbers. Allow sufficient time to complete access requirements for these websites. Grants.gov supports many Federal granting agencies and their applicants. Delaying the submission of your application until the last day could be result in your application not being received on time due to issues pertaining to a high volume of users, system maintenance, issues with registration, having a pending registration because of a backlogged system, and expired SAM.gov registrations.The proposal submission deadline is firm.

F. Confidential Information

In accordance with 2 CFR part 200, the names of entities submitting proposals, as well as proposal contents and evaluations, will be kept confidential to the extent permissible by law. Any information that the applicant wishes to have considered as confidential, privileged, or proprietary should be clearly marked as such in the proposal. If an applicant chooses to include confidential or proprietary information in the proposal, it will be kept confidential to the extent permitted by law.

G. Pre-Submission Proposal Assistance

1. The OPPE may not assist individual applicants by reviewing draft proposals or providing advice on how to respond to evaluation criteria. However, the OPPE will respond to questions from individual applicants regarding eligibility criteria, administrative issues related to the submission of the proposal, and requests for clarification regarding the announcement. Any questions should be submitted to 2501Grants@usda.gov. Additionally, the OPPE will host public teleconferences to address questions and clarify requirements during the open period of this solicitation. Dates, time, and phone numbers are provided on Page 1 of this announcement.

2. The OPPE will post questions and answers relating to this funding opportunity during its open period on the Frequently Asked Questions (FAQs) section of our website: www.partnerships.usda.gov/socially-disadvantaged-farmers-and-ranchers. Reviewing this section of our website will likely save you valuable time. The OPPE will update the FAQs on a weekly basis and conduct teleconferences on an as-needed basis.

3. Terms and Conditions of the Award. Visit our website at: https://www.usda.gov/partnerships/socially-disadvantaged-farmers-and-ranchers to review the most recent Terms and Conditions for administering our grants. This version is subject to change upon new program requirements.

4. Applicants selected for funding must inform their participants that USDA, or any of its third-party representatives, may contact them for quality assurance.

V. Application Review Information

A. Evaluation Criteria

Only eligible entities whose proposals meet the threshold criteria in Section III of this announcement will be reviewed according to the evaluation criteria set forth below. Applicants should explicitly and fully address these criteria as part of their proposal package. Each proposal will be evaluated under the regulations established under 2 CFR part 200.

The Panel will use a point system to rate each proposal, awarding a maximum of 105 points for nonprofit and community-based organizations (70 points, plus an additional 35 priority points for secretarial priorities) and 100 points for all other applicants (70 points, plus an additional 30 discretionary points for secretarial priorities). Each proposal will be reviewed by at least two members of the Panel. Panel members will review and score all applications that meet the initial eligibility review. The Panel will numerically score and rank each application. Funding decisions will be based on the Panel's rank score. Final funding decisions will be made by the designated approving official and are not appealable.

Please be patient as processing all submitted applications, vetting organizations, proposal reviews, approval process, and agreement creation is a lengthy process. All applicants will be notified electronically of their application status when final selections have been made and will be provided an opportunity for application feedback as provided within the correspondence.

Evaluation Criteria for New Grants Proposals
Criteria | Points
1. Project Narrative (up to 30 points): Under this criterion, your proposal must address at least two of the five programmatic mission areas identified in Section I, Part B, Scope of Work and will be evaluated to the extent to which the narrative includes a well-conceived strategy for addressing those requirements and objectives (see Section IV, Part D Project Narrative for additional information). | Up to 30 points.
Note: Applicants may assist either socially disadvantaged farmers and ranchers or veteran farmers and ranchers, or both groups. There are no additional points for addressing both of these group. Conversely, there are no points deducted if your proposal addresses only one of these groups.
2. The Secretary of Agriculture shall give priority to nongovernmental and community-based organizations with an expertise in working with socially disadvantaged farmers and ranchers or veteran farmers or ranchers. If the applicant is a nongovernmental or community-based organization; they will automatically receive five (5) additional points (per the 2018 Farm Bill). | 5 points for CBOs and non-profit organizations.
3. The Secretary of Agriculture places a priority for funding on projects that present problem-solving strategies that help socially disadvantaged or veteran farmers and ranchers in resolving heirs' property issues/resolutions (including tribal fractionated land, and land title issues); financial literacy and business planning; and how to recoup losses resulting from COVID-19. | 5 points.
Note: Applicants will receive 5 points for addressing any single issue within this bullet.
4. The Secretary of Agriculture places a priority for funding on projects that align with the implementation of the American Rescue Plan including: Increasing access to land and to credit; advancing education and career pathways related to farming/ranching/forestry and agriculture; providing avenues that help producers strengthen the food supply chain and building a food system that is fair, resilient, and equitable that helps socially disadvantaged and veteran producers' ability to make a living; promoting use of multiple USDA programs as well as local, state, tribal, and other resources; and generate rural business opportunities and other development efforts to advance the health, economic, and social welfare of socially disadvantaged and veteran farmers/ranchers. | 5 points.
Note: Applicants will receive 5 points for addressing any single issue within this bullet.
5. The Secretary of Agriculture places a priority for funding on projects that address climate change with climate smart ag and forestry solutions including but not limited to: building resilience to climate change and increasing agricultural productivity; efficient and renewable energy practices; indigenous regenerative practices, and soil, land, and water conservation practices that preserve natural and agricultural ecosystems. | 5 points.
Note: Applicants will receive 5 points for addressing any single issue within this bullet.
6. The Secretary of Agriculture places a priority for funding on projects that present problem-solving strategies that focus on removing systemic barriers and increasing equitable participation in USDA's programs and services, especially projects located in rural and urban communities in persistent poverty census tracts and/or counties. | 5 points.
7. The Secretary of Agriculture places a priority for funding on projects that are designed to address at least one of the following: | 5 points.
• Create new and fair market opportunities to assist socially disadvantaged, veteran, and beginning farmers or ranchers or youth
• Provide relief for socially disadvantaged, veteran, and beginning farmers or ranchers or youth that experienced adverse impacts due to the pandemic
• Assist with climate change and climate-smart agriculture
• Rural community and economic development impacting socially disadvantaged, veteran, and beginning farmers or ranchers or youth
• Assist socially disadvantaged, veteran, and beginning farmers or ranchers or youth with farm and financial planning with a goal to increase sustainability of farming operations.
8. Programmatic Capability: Under this criterion, applicants will be evaluated based on their ability to successfully complete and manage the proposed project considering the applicant's organizational experience, staff expertise and qualifications, and the organization's resources (see Section IV, Part D Programmatic Capability). The organization must clearly document its historical successes and future plans to continue assisting socially disadvantaged or veteran farmers and ranchers beyond the life of their project. | Up to 10 points.
9. Financial Management Experience: Under this criterion, applicants will be evaluated based on their demonstrated ability to successfully complete and manage their proposed project considering their past performance in successfully completing and managing prior funding agreements (see Section IV, Part D Financial Management Experience). Past performance documentation on successfully completed projects may be at the Federal, state, or local community level. Per 2 CFR 200.205, if an applicant is a prior Federal award recipient, their record in managing that award will be reviewed, including timeliness in Progress and Financial Reporting and compliance with the Terms and Conditions of previous Federal awards. | Up to 5 points.
10. Tracking and Measuring: Under this criterion, the applicant's proposal will be evaluated based upon presenting a clear and detailed plan for tracking and measuring their progress toward accomplishing outputs and completing the expected outcomes (see Section I, Part C Outputs, Performance Measures, and Outcomes). Applicants should indicate clear thresholds or benchmarks in relation to stated goals and objectives. Applicants must address how they intend to ensure a timely and successful completion of their project. Address both quantitative and qualitative data. A mitigation or contingency plan should also be addressed. | Up to 15 points.
11. Budget: Under this criterion, your proposed project budget will be evaluated to determine whether costs are reasonable, allowable, allocable, and necessary to accomplish the proposed project goals and objectives (see 2 CFR part 200.404 and Appendix II-D). The proposed budget must provide a detailed breakdown of the approximate funding used for each major activity (see Section IV, Part D. Budget Narrative). Additionally, indirect costs (10 percent maximum) must be appropriately applied. For a list of unallowable costs, see 2 CFR Part 200, subpart E. | Up to 10 points.

C. Selection of Panel Members

All eligible applications will be reviewed by the Panel. Panel members are selected based upon training and experience in assisting socially disadvantaged and veteran farmers and ranchers. This assistance includes, but is not limited to, bringing increased awareness of USDA's programs and services in underserved communities, outreach, technical assistance, cooperative extension services, civil rights, education, statistical and ethnographic data collection and analysis, and agricultural programs, and are drawn from a diverse group of experts, including USDA Program Managers and/or Grants Specialists and applicant peers, to create a balanced panel.

VI. Award Administration Information

A. Award Notices

Proposal Notifications and Feedback

1. Successful applicants will be notified by the OPPE via telephone, email, and/or postal mail that its proposed project has been recommended for award. The notification will be sent to the Project Manager listed on the SF-424, Application for Federal Assistance. Project Managers should be the Authorized Organizational Representative (AOR) and authorized to sign on behalf of the organization. It is imperative that this individual is responsive to notifications by the OPPE. If the individual is no longer in the position, notify the OPPE immediately to submit the new contact for the application by updating your organization's Key Contacts form and forwarding a résumé of the new key personnel. The grant agreement will be forwarded to the recipient for execution and must be returned to the OPPE Director, who is the authorizing official. Once grant documents are executed by all parties, authorization to begin work will be given. At a minimum, this process can take up to 30 days from the date of notification.

2. Within 10 days of award status notification, unsuccessful applicants may request feedback on their application. Feedback will be provided as expeditiously as possible. Feedback sessions will be scheduled contingent upon the number of requests and in accordance with 7 CFR 2500.026.

B. Administrative and National Policy Requirements

All awards resulting from this solicitation will be administered in accordance with the Office of Management and Budget (OMB) Uniform Administrative Requirements, Cost Principles, and Audit Requirements for Federal Awards codified at 2 CFR part 200, as supplemented by USDA implementing regulations at 2 CFR parts 400 and 415, and the OPPE Federal Financial Assistance Programs—General Award Administrative Procedures, 7 CFR part 2500. In compliance with its obligations under Title VI of the Civil Rights Act of 1964 and Executive Order 13166, it is the policy of the OPPE to provide timely and meaningful access for persons with Limited English Proficiency (LEP) to projects, programs, and activities administered by Federal grant recipients. Recipient organizations must comply with these obligations upon acceptance of grant agreements as written in the OPPE's Terms and Conditions. Following these guidelines is essential to the success of our mission to improve access to USDA programs for socially disadvantaged and veteran farmers and ranchers.

C. Reporting Requirement

Your approved statement of work, timeline, and budget are your guiding documents in carrying out the activities of your project and for your reporting requirements. Familiarize yourself with USDA's grants management system called ezFedGrants: https://www.nfc.usda.gov/FSS/ClientServices/ezFedGrants/. In accordance with 2 CFR part 200, the following reporting requirements will apply to awards provided under this FOA. The OPPE reserves the right to revise the schedule and format of reporting requirements as necessary in the award agreement.

1. Semi-annual Progress Reports and Financial Reports will be required as follows:

• Semi-annual Progress Reports. The recipient is required to provide a detailed narrative of project performance and activities as described in the award agreement. Semi-annual progress reports must be submitted to the designated OPPE official via ezFedGrants within 30 days after the end of each reporting period. This includes, but is not limited to, activities completed, events held, and the release of sign-in sheets with participants' contact information.

• Semi-annual Financial Reports. The recipient must submit SF 425, Federal Financial Report to the designated OPPE official via ezFedGrants within 30 days after the end of each reporting period.

Note: OPPE has the discretion to require quarterly reports based upon non-federal entities' performance progress and administration of grant funds.

2. Final Progress and Financial Reports will be required upon project completion. The Final Progress Report must include a summary of the project or activity throughout the funding period, achievements of the project or activity, and a discussion of overall successes and issues experienced in conducting the project or project activities. It should convey the impact your project had on the communities you served and discuss the project's accomplishments in achieving expected outcomes. This requirement includes, but is not limited to, the number of new USDA applicants as a result of your award, the number of approved applicants for USDA programs and services, increased awareness of USDA programs and services, etc.

3. The final Financial Report should consist of a complete SF-425 indicating the total costs of the project. Final Progress and Financial Reports must be submitted to the designated OPPE official via ezFedGrants within 120 days after the completion of the award period as follows:

Report | Performance period | Due date | Grace period
Form SF-425, Federal Financial Report & Performance Progress Report (Due semi-annually) | 1 October thru 31 March, 1 April thru 30 September | March 31 September 30 | 30 days until 30 April. 30 days until 30 October.
Final Financial and Progress Reports | 120 days after project completion.
* Dates subject to change at the discretion of OPPE.

Lisa R. Ramírez,
Director, Office of Partnerships and Public Engagement.

[FR Doc. 2022-05066 Filed 3-9-22; 8:45 am]

BILLING CODE 3412-89-P